DEPARTMENT OF COMMERCE

Foreign-Trade Zones Board

[B-14-2025]

Foreign-Trade Zone (FTZ) 89, Notification of Proposed Production Activity; GPI Beauty, Inc.; (Plastic Tube Sleeves); Las Vagas, Nevada

GPI Beauty, Inc., submitted a notification of proposed production activity to the FTZ Board (the Board) for its facility in Las Vagas, Nevada within FTZ 89. The notification conforming to the requirements of the Board's regulations (15 CFR 400.22) was received on February 21, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is plastic tube sleeves with caps (duty rate 3%).

The proposed foreign-status materials/components include: plastic airless bottles, tudes and jars; plastic roller heads; aluminum barrier laminate tubes; plastic barrier laminate tubes; plastic caps; glass bottles; and, hand pumps (duty rate ranges from duty-free to 5.3%). The request indicates that the materials/components are subject to duties under section 1702(a)(1)(B) of the International Emergency Economic Powers Act (section 1702) and section 301 of the Trade Act of 1974 (section 301), depending on the country of origin. The applicable section 1702 and section 301 decisions require subject merchandise to be admitted to FTZs in privileged foreign status (19 CFR 146.41).

Public comment is invited from interested parties. Submissions shall be addressed to the Board's Executive Secretary and sent to: ftz@trade.gov. The closing period for their receipt is April 21, 2025.

A copy of the notification will be available for public inspection in the “Online FTZ Information System” section of the Board's website.

For further information, contact Christopher Wedderburn at Chris.Wedderburn@trade.gov.

Dated: March 4, 2025.
Elizabeth Whiteman,
Executive Secretary.

[FR Doc. 2025-03753 Filed 3-7-25; 8:45 am]

BILLING CODE 3510-DS-P